DEPARTMENT OF THE INTERIOR

Bureau of Indian Affairs

Advisory Board for Exceptional Children

AGENCY: Bureau of Indian Education, Interior.

ACTION: Notice of meeting.

SUMMARY: In accordance with the Federal Advisory Committee Act, the Bureau of Indian Education is announcing that the Advisory Board for Exceptional Children will hold its next meeting in Miami, FL. The purpose of the meeting is to meet the mandates of the Individuals with Disabilities Education Improvement Act of 2004 (IDEIA) on Indian children with disabilities.

DATES: The Board will meet on Sunday, April 29, 2007, from 9 a.m. to 9 p.m.; Monday, April 30, 2007, from 8 a.m. to 5 p.m.; and Tuesday, May 1, 2007, from 8 a.m. to 5 p.m. Local Time.

ADDRESSES: The meetings will be held at the Miccosukee Indian School, U.S. HWY 41 Mile Marker 70, P.O. Box 440021, Tamiami Station, Miami, FL 33144.

Written statements may be submitted to Mr. Thomas M. Dowd, Director, Bureau of Indian Education, 1849 C Street, NW., Mail Stop 3609-MIB, Washington, DC 20240; Telephone (202) 208-6123; Fax (202) 208-3312.

FOR FURTHER INFORMATION CONTACT: Dr. Sherry Allison, Designated Federal Official, Bureau of Indian Education, Albuquerque Service Center, Division of Performance and Accountability, P.O. Box 1088, Suite 332, Albuquerque, NM 87103; Telephone (505) 563-5277.

SUPPLEMENTARY INFORMATION: The Advisory Board was established to advise the Secretary of the Interior, through the Assistant Secretary—Indian Affairs, on the needs of Indian children with disabilities, as mandated by the Individuals with Disabilities Education Improvement Act of 2004 (Pub. L. 108-446).

The following items will be on the agenda:

• Special Education Director's Report.

• Status of Annual Performance Report.

• Dispute Resolution Activities.

• Albuquerque Service Center Update.

The meetings are open to the public.

Dated: March 20, 2007.
Michael D. Olsen,
Principal Deputy Assistant Secretary, Indian Affairs.

[FR Doc. E7-6134 Filed 4-2-07; 8:45 am]

BILLING CODE 4310-6W-P